ENVIRONMENTAL PROTECTION AGENCY

[FRL-7483-8]

Joyce National Powder Company Superfund Site, CERCLA Section 122(h) Administrative Settlement; Notice of Proposed Administrative Settlement Pursuant to the Comprehensive Environmental Response, Compensation, and Liability Act of 1980, As Amended

AGENCY: Environmental Protection Agency.

ACTION: Notice; request for public comment.

SUMMARY: In accordance with section 122(i) of the Comprehensive Environmental Response, Compensation, and Liability Act of 1980, as amended (CERCLA), 42 U.S.C. 9622(i), notice is hereby given of a proposed administrative cost recovery settlement concerning the Joyce National Powder Company Superfund Site, Eldred Township, McKean County, Pennsylvania (Proposed Settlement). The Proposed Settlement with Robert F. Gustke and Paul G. Modie (Settling Parties) has been approved by the Attorney General, or her designee, of the United States Department of Justice. The Proposed Settlement was signed by the Regional Administrator of the U.S. Environmental Protection Agency (EPA), Region III, on March 17, 2003, pursuant to section 122(h) of CERCLA, 42 U.S.C. 9622(h), and is subject to review by the public pursuant to this notice.

The Proposed Settlement resolves EPA's claim for past response costs under section 107 of CERCLA, 42 U.S.C. 9607, against the Settling Parties, and requires the Settling Parties to pay to the EPA Hazardous Substance Superfund $190,000 in reimbursement of Past Response Costs, which had totaled $676,147.37. Settling Parties agreed that Robert F. Gustke will pay $165,000 and Paul G. Modie will pay $25,000. The Settling Parties will receive a Covenant Not to Sue for present and future liabilities at this Site.

For thirty (30) days following the date of publication of this notice, EPA will receive written comments relating to the proposed settlement. EPA will consider all comments received and may withdraw or withhold consent to the proposed settlement if such comments disclose facts or considerations which indicate the proposed settlement is inappropriate, improper, or inadequate. EPA's response to any written comments received will be available for public inspection at the U.S. Environmental Protection Agency, Region III, 1650 Arch Street, Philadelphia, PA 19103.

DATES: Comments must be provided on or before May 16, 2003.

ADDRESSES: The proposed settlement agreement is available for public inspection at the U.S. Environmental Protection Agency, Region III, 1650 Arch Street, Philadelphia, PA 19103. A copy of the proposed settlement agreement may be obtained from Suzanne Canning, Regional Docket Clerk (3RC00), U.S. Environmental Protection Agency, 1650 Arch Street, Philadelphia, PA 19103; telephone number (215) 814-2476. Comments should reference the “Joyce National Powder Company Superfund Site” and “EPA Docket No. CERCLA-03-2003-0036DM” and should be forwarded to Suzanne Canning at the above address.

FOR FURTHER INFORMATION CONTACT: Jeffrey M. Casaletto (3RC42), (215) 814-2647, U.S. Environmental Protection Agency, 1650 Arch Street, Philadelphia, Pennsylvania 19103.

Dated: April 9, 2003.
James W. Newsom,
Acting Regional Administrator, Region III.

[FR Doc. 03-9342 Filed 4-15-03; 8:45 am]

BILLING CODE 6560-50-P